DEPARTMENT OF ENERGY

Federal Energy Regulatory Commission

[Docket No. EC02-57-000, et al.]

Public Service Company of New Mexico, et al.; Electric Rate and Corporate Regulation Filings

March 28, 2002.

Take notice that the following filings have been made with the Commission. Any comments should be submitted in accordance with Standard Paragraph E at the end of this notice.

1. Public Service Company of New Mexico

[Docket No. EC02-57-000]

Take notice that on March 25, 2002, Public Service Company of New Mexico (PNM) submitted for filing an application under section 203 of the Federal Power Act for approval of the disposition to Navopache Electric Cooperative, Inc. (Navopache) of PNM's interest in the Coronado Generating Station Switchyard 500/69 kV transformer, substation equipment, and associated communications equipment.

Comment Date: April 15, 2002.

2. Perryville Energy Partners, L.L.C.

[Docket No. EC02-58-000]

Take notice that on March 26, 2002, Perryville Energy Partners, L.L.C. (PEP), (on behalf of Perryville Energy Holdings LLC (“PEH”) and Cleco Midstream Resources LLC (Midstream) and Mirant Perryville Investments, Inc. (“MPI”) filed with the Commission an Application pursuant to Section 203 of the Federal Power Act for a transaction of a disposition of jurisdictional facilities whereby MPI would transfer all of the membership interests it holds in PEP to PEH through an Equity Purchase Agreement.

Comment Date: April 16, 2002.

3. Central Main Power Company

[Docket No. ER01-2032-002]

Take notice that on March 18, 2002, Central Main Power Company (CMP) filed with the Federal Energy Regulatory Commission (Commission) a compliance report describing the settlement agreement between CMP and Calpine Construction Finance Company, L.P., that resolved all disputed issued.

Comment Date: April 12, 2002.

4. International Transmission Company

[Docket No. ER02-1382-000]

Take notice that on March 26, 2002, International Transmission Company (International Transmission) tendered for filing pursuant to Section 205 of the Federal Power Act, certain late-filed transmission service agreements for the provision of network integration transmission service under the Joint Open Access Transmission Tariff between International Transmission and Michigan Electric Transmission Company to the following customers: University of Michigan and Engage Energy America LLC.

Comment Date: April 16, 2002.

5. Southern California Edison Company

[Docket No. ER02-1383-000]

Take notice that on March 26, 2002, Southern California Edison Company (SCE) tendered for filing a Letter Agreement between SCE and Whitewater Energy Corporation (Whitewater). The Letter Agreement specifies the terms and conditions under which SCE will begin construction of the interconnection facilities necessary to interconnect the Whitewater project to SCE's distribution system.

Copies of this filing were served upon the Public Utilities Commission of the State of California and Whitewater.

Comment Date: April 16, 2002.

6. Puget Sound Energy, Inc.

[Docket No. ER02-1384-000]

Take notice that on March 26, 2002, Puget Sound Energy, Inc., as Transmission Provider, tendered for filing a service agreement for Firm Point-To-Point Transmission Service and a service agreement for Non-Firm Point-To-Point Transmission Service with RWE Trading Americas Inc. (RWE), as Transmission Customer. A copy of the filing was served upon RWE.

Comment Date: April 16, 2002.

7. Duke Electric Transmission

[Docket No. ER02-1385-000]

Take notice that on March 26, 2002, Duke Electric Transmission (Duke), a division of Duke Energy Corporation, tendered for filing with the Federal Energy Regulatory Commission (Commission) a Service Agreement with Duke Power, for Firm Transmission Service under Duke's Open Access Transmission Tariff.

Duke requests that the proposed Service Agreement be permitted to become effective on April 1, 2002. Duke states that this filing is in accordance with Part 35 of the Commission's Regulations, 18 CFR Pt. 35, and that a copy has been served on the North Carolina Utilities Commission.

Comment Date: April 16, 2002.

8. Duke Electric Transmission

[Docket No. ER02-1386-000]

Take notice that on March 26, 2002, Duke Electric Transmission (Duke), a division of Duke Energy Corporation, tendered for filing with the Federal Energy Regulatory Commission (Commission) a Service Agreement with Duke Power, for Firm Transmission Service under Duke's Open Access Transmission Tariff.

Duke requests that the proposed Service Agreement be permitted to become effective on April 1, 2002. Duke states that this filing is in accordance with Part 35 of the Commission's Regulations, 18 CFR 35, and that a copy has been served on the North Carolina Utilities Commission.

Comment Date: April 16, 2002.

9. Entergy Services, Inc.

[Docket No. ER02-1387-000]

Take notice that on March 26, 2002, Entergy Services, Inc., on behalf of Entergy Louisiana, Inc., tendered for filing an unexecuted Interconnection and Operating Agreement with St. Charles Development Company, L.L.C. (Enron St. Charles), and a Generator Imbalance Agreement with Enron St. Charles.

Comment Date: April 16, 2002.

10. Xcel Energy Services, Inc.

[Docket No. ER02-1388-000]

Take notice that on March 26, 2002, Xcel Energy Services, Inc. (XE”), on behalf of Northern States Power Company (Minnesota) (hereinafter NSP), submitted for filing a Second Revision to the Service Schedule A to the Municipal Interconnection and Interchange Agreement between NSP and they City of Melrose.

XES requests that this agreement become effective on January 1, 2002.

Comment Date: April 16, 2002.

11. Xcel Energy Services, Inc.

[Docket No. ER02-1389-000]

Take notice that on March 26, 2002, Xcel Energy Services, Inc. (XES), on behalf of Northern States Power Company (Minnesota) (hereinafter NSP), submitted for filing a Second Revision to the Service Schedule A to the Municipal Interconnection and Interchange Agreement between NSP and they City of Fairfax.

XES requests that this agreement become effective on January 1, 2002.

Comment Date: April 16, 2002.

12. Xcel Energy Services, Inc.

[Docket No. ER02-1390-000]

Take notice that on March 26, 2002, Xcel Energy Services, Inc. (XES), on behalf of Northern States Power Company (Minnesota) (hereinafter NSP), submitted for filing a Second Revision to the Service Schedule A to the Municipal Interconnection and Interchange Agreement between NSP and they City of Sioux Falls.

XES requests that this agreement become effective on January 1, 2002.

Comment Date: April 16, 2002.

13. Southwest Power Pool, Inc.

[Docket No. ER02-1391-000]

Take notice that on March 26, 2002, Southwest Power Pool, Inc. (SPP) submitted for filing an executed service agreement for Firm Point-to-Point Transmission Service with Western Resources d.b.a. Westar Energy (Transmission Customer).

SPP seeks an effective date of March 1, 2002 for this service agreement. The Transmission Customer was served with a copy of this filing.

Comment Date: April 16, 2002.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Linwood A. Watson, Jr.,
Deputy Secretary.

[FR Doc. 02-8112 Filed 4-3-02; 8:45 am]

BILLING CODE 6717-01-P